ENVIRONMENTAL PROTECTION AGENCY

[EPA-HQ-OPP-2013-0380; FRL-9388-4]

Pesticide Maintenance Fee: Notice of Receipt of Requests to Voluntarily Cancel Certain Pesticide Registrations

AGENCY: Environmental Protection Agency (EPA).

ACTION: Notice.

SUMMARY: In accordance with the Federal Insecticide, Fungicide, and Rodenticide Act (FIFRA), EPA is issuing a notice of receipt of requests by registrants to voluntarily cancel certain pesticide registrations. EPA intends to grant these requests at the close of the comment period for this announcement unless the Agency receives substantive comments within the comment period that would merit its further review of the requests, or unless the registrants withdraw its requests. If these requests are granted, any sale, distribution, or use of products listed in this notice will be permitted after the registration has been cancelled only if such sale, distribution, or use is consistent with the terms as described in the final order.

DATES: Comments must be received on or before December 23, 2013.

ADDRESSES: Submit your comments, identified by docket identification (ID) number EPA-HQ-OPP-2013-0380, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

Submit written withdrawal request by mail to: Information Technology and Resources Management Division (7502P), Office of Pesticide Programs, Environmental Protection Agency, 1200 Pennsylvania Ave. NW., Washington, DC 20460-0001. ATTN: Michael Yanchulis.

• Hand Delivery: To make special arrangements for hand delivery or delivery of boxed information, please follow the instructions at http://www.epa.gov/dockets/contacts.htm.

Additional instructions on commenting or visiting the docket, along with more information about dockets generally, is available at http://www.epa.gov/dockets.

FOR FURTHER INFORMATION CONTACT: Michael Yanchulis, Information Technology and Resources Management Division (7502P), Office of Pesticide Programs, Environmental Protection Agency, 1200 Pennsylvania Ave. NW., Washington, DC 20460-0001; telephone number: (703) 347-0237; email address: yanchulis.michael@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. What action is the Agency taking?

This notice announces receipt by the Agency of requests from registrants through Pesticide Maintenance Fee responses to cancel 264 pesticide products registered under FIFRA section 3 or 24(c). These registrations are listed in sequence by registration number in Table 1 of this unit.

Unless the Agency determines that there are substantive comments that warrant further review of the requests or the registrants withdraw their requests, EPA intends to issue an order in the Federal Register canceling all of the affected registrations.

Table 1—Registrations With Pending Requests for Cancellation
Registration No. | EPA company No. | Product name | Chemical name
000100-00701 | 100 | Amber Herbicide | Triasulfuron.
000100-00800 | 100 | Ridomil Gold Bravo | D-Alanine, N-(2,6-dimethylphenyl-N-(methoxyacetyl)-,methyl ester; Chlorothalonil.
000100-00848 | 100 | Zorial Rapid 80 Herbicide | Norflurazon.
000228-00557 | 228 | Atera GC 2+1 Sc Insecticide | Bifenthrin; Imidacloprid.
000239-02683 | 239 | Ortho Home Pest Insect Killer | Bifenthrin.
000264-00378 | 264 | Larvin Brand DF Thiodicarb Insecticide/Ovicide | Thiodicarb.
000264-00379 | 264 | Larvin Brand 3.2 Thiodicarb Insecticide/Ovicide | Thiodicarb.
000264-00467 | 264 | Aliette Fungicide | Fosetyl-Al.
000264-00504 | 264 | Aliette Injectable Fungicide | Fosetyl-Al.
000264-00530 | 264 | Larvin Brand DF WSP Thiodicarb Insecticide/Ovicide | Thiodicarb.
000264-00700 | 264 | Dropp SC Cotton Defoliant | Thidiazuron.
000264-00705 | 264 | Scala 400 SC Fungicide | Pyrimethanil.
000264-00735 | 264 | Sencor 4 Flowable Herbicide | Metribuzin.
000264-00737 | 264 | Bayleton 50% Dry Flowable Fungicide | Triadimefon.
000264-00750 | 264 | Raxil 0.26 FS Seed Treatment Fungicide | Tebuconazole.
000264-00782 | 264 | Encore 190 Insecticide | Imidacloprid.
000264-00928 | 264 | Gustafson Captan 30-DD | Captan.
000264-00931 | 264 | Gustafson Captan 400 | Captan.
000264-00939 | 264 | Gustafson RTU-Baytan-Thiram Fungicide | Triadimenol.
000264-00949 | 264 | Vitavax PC Peanut Seed Treatment Fungicide | Thiram; Carboxin; Pentachloronitrobenzene; Captan.
000264-00961 | 264 | Raxil 0.26FS Seed Treatment Fungicide | Tebuconazole.
000264-00965 | 264 | Busan 30A | 2-(Thiocyanomethylthio)benzothiazole.
000264-00966 | 264 | Raxil XT Wettable Powder Fungicide | Tebuconazole; Metalaxyl.
000264-00973 | 264 | Evolve Potato Seed Piece Treatment Fungicide | Cymoxanil; Thiophanate-methyl; Mancozeb.
000264-00975 | 264 | Protege 70WP Fungicide | Azoxystrobin.
000264-00979 | 264 | Protege-Allegiance WP Fungicide | Azoxystrobin; Metalaxyl.
000264-00982 | 264 | Protege-FL Seed Applied Fungicide | Azoxystrobin.
000264-00990 | 264 | Tops 30 Flowable Fungicide | Thiophanate-methyl.
000264-00991 | 264 | Soygard L with Protege | Azoxystrobin; Metalaxyl.
000264-00999 | 264 | Three Way Peanut Seed Treatment Fungicide | Metalaxyl; Trufloxystrobin; Captan.
000352-00636 | 352 | DuPont Advion Cockroach Bait Station | Indoxacarb.
000352-00637 | 352 | DuPont Provaunt 1.25SC Insecticide | Indoxacarb.
000352-00646 | 352 | DuPont Advion Ant Bait Station | Indoxacarb.
000352-00770 | 352 | DuPont Aperion ST Insecticide | Indoxacarb.
000400-00469 | 400 | Dimilin 25W Mushrooms | Diflubenzuron.
000400-00559 | 400 | Protector-L | Thiram.
000432-01310 | 432 | Merit 0.62 Granular | Imidacloprid.
000432-01311 | 432 | Merit 2.5 G Greenhouse and Nursery Insecticide | Imidacloprid.
000432-01473 | 432 | Coretect Turf and Ornamental Insecticide | Imidacloprid.
000464-00661 | 464 | Bioban 2000 | 2-Methyl-3(2H)-isothiazolone; 5-Chloro-2-methyl-3(2H)-isothiazolone.
000464-00679 | 464 | Tris Nitro Solid | 2-(Hydroxymethyl)-2-nitro-1,3-propanediol.
000499-00430 | 499 | Whitmire TC 148A Microencapsulated Concentrate—Contains Nylar | Pyriproxyfen.
000499-00439 | 499 | Whitmire TC 148B | Pyriproxyfen.
000499-00537 | 499 | TC296 | Dinotefuran.
000499-00554 | 499 | TC-329 | Dinotefuran.
000524-00538 | 524 | MON 78271 Herbicide | Glycine, N-(phosphonomethyl)-potassium salt.
001448-00017 | 1448 | Busan 11-M1 | Barium metaborate.
001448-00023 | 1448 | Busan 90 | Ethanone, 2-bromo-1-(4-hydroxyphenyl)-.
001448-00045 | 1448 | Busan 93 | 2-(Thiocyanomethylthio)benzothiazole; Ethanone, 2-bromo-1-(4-hydroxyphenyl)-.
001448-00075 | 1448 | DCDIC | Carbamodithioic acid, cyano-,disodium salt.
001448-00342 | 1448 | Busan 1130 | Ethanone, 2-bromo-1-(4-hydroxyphenyl)-.
001448-00367 | 1448 | Busan 90C | Ethanone, 2-bromo-1-(4-hydroxyphenyl)-.
001448-00386 | 1448 | TCMTB 5WB | 2-(Thiocyanomethylthio)benzothiazole.
001529-00033 | 1529 | Nuosept 145 Preservative | Methanol, (((1-methyl-2-(5-methyl-3-oxazolidinyl)ethoxy)methoxy)methoxy)-.
001677-00056 | 1677 | Bar Star Bar Glass Sanitizer | Dodecylbenzenesulfonic acid; Phosphoric acid.
001677-00090 | 1677 | Mandate | Capric acid; Caprylic acid; Citric acid; Phosphoric acid.
001706-00237 | 1706 | SD Algaecide | 1-Octanaminium, N,N-dimethyl-N-octyl-, chloride.
002217-00692 | 2217 | Gordon's Professional Turf Products Teremec SP Turf Fungicide | Chloroneb.
002724-00592 | 2724 | SPI Residual Pressurized Spray II | Pyrethrins; Permethrin; MGK 264.
002724-00642 | 2724 | Speer Flea & Tick Spray IV | Pyrethrins; Permethrin; Piperonyl butoxide.
002724-00648 | 2724 | Speer Neoperm Total Release Indoor Fogger IV | Tetramethrin; Permethrin; Piperonyl butoxide.
002724-00709 | 2724 | Elite Quick-Kill Spray Concentrate | Pyrethrins; Piperonyl butoxide.
002724-00776 | 2724 | Linalool Mousse | Pyriproxyfen; Prallethrin; MGK 264; Linalool.
005813-00049 | 5813 | Clorox Toilet Bowl Cleanser | Sodium hypochlorite.
005887-00169 | 5887 | Black Leaf Vitamin B1 Solution | 1-Naphthaleneacetic acid.
007173-00239 | 7173 | Difethialone Block | Difethialone.
007173-00240 | 7173 | Generation Blue Pellets Bait Packs | Difethialone.
007969-00249 | 7969 | Bas 510 ST Seed Treatment Fungicide | Boscalid.
008622-00043 | 8622 | Metapicrin | Chloropicrin.
009198-00094 | 9198 | The Andersons Tee Time with 0.92% Team | Trifluralin; Benfluralin.
009198-00110 | 9198 | The Andersons Tee Time Insecticide with 6.2% Dylox | Trichlorfon.
009198-00112 | 9198 | The Andersons 0.5% Bayleton Fungicide | Triadimefon.
009198-00153 | 9198 | Andersons Fertilizer Weed & Feed with 0.92% Atrazine | Atrazine.
009198-00155 | 9198 | The Andersons Fertilizer with .1875% Dimension & 1.0% Ronstar | Dithiopyr; Oxadiazon.
009198-00156 | 9198 | The Andersons GC Fertilizer Plus 0.058% Bifenthrin | Bifenthrin.
009198-00161 | 9198 | The Andersons 0.058% Bifenthrin Insect Control Plus Fertilizer | Bifenthrin.
009198-00162 | 9198 | The Andersons 0.029% Bifenthrin Insect Control Plus Fertilizer | Bifenthrin.
009198-00171 | 9198 | Anderson's Fertilizer Plus Preemergent Weed Control | Pendimethalin.
009198-00174 | 9198 | Anderson's Proturf Fertilizer Plus Weedgrass Control | Pendimethalin.
009198-00186 | 9198 | St. Augustine Weed Control Plus Fertilizer | Atrazine.
009198-00208 | 9198 | Fertilizer Plus Fungicide XI | Myclobutanil.
009198-00218 | 9198 | The Andersons 0.51% Granule Propiconazole | Propiconazole.
009198-00220 | 9198 | Andersons Golf Products 30% Etradiazole Turf Fungicide | Etridiazole.
009198-00221 | 9198 | Andersons Golf Products Truban Fungicide 30% WP | Etridiazole.
009198-00223 | 9198 | The Andersons Insect Killer Granules with 2.0% Carbaryl | Carbaryl.
009198-00238 | 9198 | The Andersons 0.058% Bifenthrin + 0.115% Imidacloprid Insecticide with Fertilizer | Bifenthrin; Imidacloprid.
009198-00240 | 9198 | The Andersons GC 0.077% Bifenthrin + 0.155% Imidacloprid Granular Insecticide | Bifenthrin; Imidacloprid.
009198-00241 | 9198 | The Andersons GC 0.058% Bifenthrin + 0.115% Imidacloprid Insecticide with Fertilizer | Bifenthrin; Imidacloprid.
009198-00246 | 9198 | The Andersons 0.39% Trinexapac-Ethyl + Fertilizer | Trinexapac-ethyl.
009198-00248 | 9198 | The Andersons 0.75% Prodiamine Herbicide | Prodiamine.
009198-00249 | 9198 | The Andersons 0.5% Prodiamine Herbicide | Prodiamine.
010088-00083 | 10088 | Prometon 12.5% Herbicide Concentrate | Prometon.
010163-00323 | 10163 | Scythe L Herbicide | Nonanoic acid.
034704-00318 | 34704 | Dormant Flowable Emulsion | Mineral oil.
034704-00337 | 34704 | Niagara Citrus Sol Oil Light Medium Code 30390 | Mineral oil.
054625-00002 | 54625 | Brita Water Filter Travel Pak | Silver; Glycine, hydriodide (4:1), compd. with iodine (4:5).
055146-00056 | 55146 | Gibgro 5% Powder | Gibberellic acid.
055146-00086 | 55146 | Agtrol 6-BA | Gibberellin; Benzyladenine.
060061-00005 | 60061 | 2000 Soft Sloughing Type Antifouling Paint | Cuprous oxide.
060061-00033 | 60061 | Vinelast Antifouling Finish 720 Permanent Red | Cuprous oxide.
060061-00034 | 60061 | Woolsey Vinelast Anti-Fouling Racing Finish 733 Permanent Green | Cuprous oxide.
060061-00035 | 60061 | Woolsey Vinelast Anti-Fouling Racing Finish 734 Permanent Blue | Cuprous oxide.
060061-00051 | 60061 | Pettit Marine Paint Anti-Fouling 1210 Blue Tropic | Cuprous oxide.
060061-00065 | 60061 | Pettit Marine Paint Unepoxy Tin Free Antifouling 1619 Red for Tropic | Cuprous oxide.
060061-00077 | 60061 | Neptune II Water Based Antifouling Finish 550 Blue | Cuprous oxide.
066330-00271 | 66330 | Dimethoate Technical | Dimethoate.
067071-00002 | 67071 | Acticide PM | Chlorothalonil; Diuron.
067071-00036 | 67071 | Microcare ITA | 2-Methyl-3(2H)-isothiazolone; 5-Chloro-2-methyl-3(2H)-isothiazolone.
067071-00045 | 67071 | Acticide MBL 5515 | 1,2-Benzisothiazlin-3-one; Bronopol.
067071-00059 | 67071 | Acticide CBM-F | 5-Chloro-2-methyl-3(2H)-isothiazolone; 1,2-Benzisothiazolin-3-one; 2-Methyl-3(2H)-isothiazolone.
067619-00018 | 67619 | Silvio | Silver; Citric acid.
070404-00009 | 70404 | Tinosan SDC-R | Silver; Citric acid.
074655-00002 | 74655 | Spectrum RX-33 | Sodium chlorite.
074655-00004 | 74655 | Spectrum RX-32 | Methylene bis (thiocyanate).
074655-00009 | 74655 | Spectrum RX-508 | 2,2-Dibromo-3-nitrilopropionamide.
074655-00010 | 74655 | Spectrum RX-65 | Alkyl* dimethyl benzyl ammonium chloride *(50%C14, 40%C12, 10%C16); Bis(trichloromethyl) sulfone.
074655-00022 | 74655 | Amerstat 300 | 2,2-Dibromo-3-nitrilopropionamide.
074655-00029 | 74655 | Drewborm Precursor | Sodium bromide.
075318-00006 | 75318 | B2E-01 | S-Methoprene.
083222-00024 | 83222 | Bifen 2 Ag Gold-Cal | Bifenthrin.
AL110001 | 100 | Gramoxone Inteon | Paraquat dichloride.
AR070007 | 264 | Ricestar HT Herbicide | Fenoxaprop-p-ethyl.
AR090001 | 81880 | Permit Herbicide | Halosulfuron.
AR110001 | 10163 | Permit Plus | Thifensulfuron; Halosulfuron-methyl.
AR120010 | 81880 | Permit Plus | Thifensulfuron; Halosulfuron-methyl.
AR120011 | 81880 | Permit Plus | Thifensulfuron; Halosulfuron-methyl.
AR120012 | 81880 | Permit Plus | Thifensulfuron; Halosulfuron-methyl.
AR120013 | 81880 | Permit Plus | Thifensulfuron; Halosulfuron-methyl.
AR120015 | 81880 | Permit Plus | Thifensulfuron; Halosulfuron-methyl.
AR810044 | 264 | Monitor 4 | Methamidophos.
AR870007 | 264 | Monitor 4 | Methamidophos.
AR940001 | 59639 | Valent Bolero 10 G | Thiobencarb.
AZ030004 | 66222 | Thiodan 3 EC Insecticide | Endosulfan.
AZ080005 | 352 | DuPont Layby Pro Herbicide | Diuron; Linuron.
AZ880001 | 264 | Rovral Fungicide | Iprodione.
AZ910004 | 10163 | Gowan Trifluralin 10G | Trifluralin.
AZ980004 | 19713 | Drexel Endosulfan 3EC | Endosulfan.
CA040015 | 66222 | Galigan 2E Oxyfluorfen Herbicide | Oxyfluorfen.
CA040018 | 66222 | Galigan 2E Oxyfluorfen Herbicide | Oxyfluorfen.
CA040019 | 100 | Subdue Maxx | D-Alanine, N-(2,6-dimethylphenyl-N-(methoxyacetyl)-, methyl ester.
CA060014 | 62719 | M-Pede | Potassium laurate.
CA070009 | 66222 | Rimon 0.83 EC | Novaluron.
CA790188 | 264 | Monitor 4 | Methamidophos.
CA810059 | 264 | Sevin Brand Sprayable Carbaryl Insecticide | Carbaryl.
CA960002 | 34704 | Western Farm Service Dusting Sulfur | Sulfur.
CA960006 | 62719 | Eagle WSP Fungicide | Myclobutanil.
CA970014 | 62719 | Goal (R) 2XL Herbicide | Oxyfluorfen.
CA980001 | 264 | Provado 1.6 Flowable | Imidacloprid.
CA990015 | 62719 | Confirm 2F Agricultural Insecticide | Tebufenozide.
CO080001 | 279 | Mustang Max EC Insecticide | Zeta-Cypermethrin.
DE010002 | 264 | Sevin XLR Plus Carbaryl Insecticide | Carbaryl.
DE040002 | 55146 | Phostrol Agricultural Fungicide | Phosphorous acid.
DE060001 | 66222 | Diazinon AG500 | Diazinon.
FL000007 | 62719 | Dithane DF Agricultural Fungicide | Mancozeb.
FL000012 | 59639 | Select Herbicide | Clethodim.
FL040008 | 50534 | Bravo Ultrex | Chlorothalonil.
FL090011 | 279 | Fury 1.5 EW Insecticide | Zeta-Cypermethrin.
FL890036 | 264 | Sevin Brand 80 S Carbaryl Insecticide | Carbaryl.
FL890037 | 264 | Sevin Brand 4F Carbaryl Insecticide | Carbaryl.
GA040004 | 50534 | Bravo Ultrex | Chlorothalonil.
GA100005 | 100 | Gramoxone Inteon | Paraquat dichloride.
GA110004 | 66222 | Cotoran 4L | Fluometuron.
HI030001 | 66222 | Thionex 50W | Endosulfan.
HI070006 | 66222 | Thionex 3EC | Endosulfan.
HI090004 | 2935 | HBT—Imaz | Imazapyr, isopropylamine salt.
HI910008 | 34704 | Superior 70 Oil | Mineral oil.
IA080002 | 279 | Mustang Max EC Insecticide | Zeta-Cypermethrin.
ID000016 | 352 | Curzate 60DF | Cymoxanil.
ID030002 | 66222 | Thionex 3 EC | Endosulfan.
ID030016 | 10163 | Carzol SP Miticide/insecticide In Water Soluble Packaging | Formetanate hydrochloride.
ID060018 | 66222 | Abba 0.15EC | Abamectin.
ID080001 | 279 | Mustang Max EC Insecticide | Zeta-Cypermethrin.
ID080016 | 100 | Dual II Magnum | S-Metolachlor.
IL080002 | 279 | Mustang Max EC Insecticide | Zeta-Cypermethrin.
IN980002 | 100 | Princep Caliber 90 Herbicide | Simazine.
KS020001 | 7969 | Distinct Herbicide | Diflufenzopyr-sodium; Dicamba, sodium salt.
KS040006 | 66222 | Atrazine 4L | Atrazine.
KS040008 | 62719 | NAF-127 | Spinosad.
KS110003 | 7173 | Rozol Prairie Dog Bait | Chlorophacinone.
KS120002 | 7173 | Rozol Prairie Dog Bait | Chlorophacinone.
LA010010 | 241 | Scepter 70 DG Herbicide | Imazaquin.
LA020006 | 62719 | Confirm 2F Agricultural Insecticide | Tebufenozide.
LA060009 | 7969 | Termidor 80 WG Termiticide/insecticide | Fipronil.
LA060010 | 7969 | Termidor SC Termiticide/insecticide | Fipronil.
LA090003 | 100 | Reflex Herbicide | Sodium salt of fomesafen.
LA090004 | 279 | Mustang Max EW Insecticide | Zeta-Cypermethrin.
LA100001 | 10163 | Onager Miticide | Hexythiazox.
LA110002 | 10163 | Permit Plus | Thifensulfuron; Halosulfuron-methyl.
ME000003 | 62719 | Mimic 2LV | Tebufenozide.
ME080003 | 352 | Dupont Express Herbicide with Totalsol Soluble Granules | Tribenuron-methyl.
MN020010 | 100 | Trinexapac Liquid | Trinexapac-ethyl.
MN080001 | 279 | Mustang Max EC Insecticide | Zeta-Cypermethrin.
MN080008 | 352 | DuPont Coragen Insect Control | Chlorantraniliprole.
MO090001 | 100 | Reflex Herbicide | Sodium salt of fomesafen.
MO110002 | 100 | Callisto Herbicide | Mesotrione.
MO120005 | 100 | Callisto Herbicide | Mesotrione.
MS020022 | 352 | Super Boll | Ethephon.
MS060011 | 66222 | Abba 0.15EC | Abamectin.
MS060013 | 352 | DuPont Classic Herbicide | Chlorimuron.
MS090004 | 100 | Reflex Herbicide | Sodium salt of fomesafen.
MS110002 | 81880 | Permit Plus | Thifensulfuron; Halosulfuron-methyl.
MT080001 | 279 | Mustang Max EC Insecticide | Zeta-Cypermethrin.
NC060004 | 100 | Gramoxone Inteon | Paraquat dichloride.
NC080001 | 66222 | Thionex 3EC | Endosulfan.
NC080004 | 352 | DuPont Linex 4L Herbicide | Linuron.
NC090006 | 66330 | Permethrin 3.2 AG | Permethrin.
NC110002 | 100 | Gramoxone Inteon | Paraquat dichloride.
ND020001 | 62719 | Treflan H.F.P. | Trifluralin.
ND080001 | 279 | Mustang Max EC Insecticide | Zeta-Cypermethrin.
ND080002 | 279 | Mustang Max EC Insecticide | Zeta-Cypermethrin.
NE020003 | 7969 | Distinct Herbicide | Diflufenzopyr-sodium; Dicamba, sodium salt.
NE080001 | 279 | Mustang Max EC Insecticide | Zeta-Cypermethrin.
NE080002 | 279 | Mustang Max EC Insecticide | Zeta-Cypermethrin.
NJ030004 | 100 | Dual Magnum Herbicide | S-Metolachlor.
NJ040001 | 100 | Dual Magnum Herbicide | S-Metolachlor.
NJ060001 | 100 | Gramoxone Inteon | Paraquat dichloride.
NJ990004 | 100 | Dual Magnum Herbicide | S-Metolachlor.
NJ990005 | 100 | Dual Magnum Herbicide | S-Metolachlor.
NM010001 | 264 | Balance Flexx Herbicide | Isoxaflutole.
NM080003 | 7969 | Endura Fungicide | Boscalid.
NV060010 | 66222 | Abba 0.15EC | Abamectin.
NY010002 | 62719 | Confirm 2F Agricultural Insecticide | Tebufenozide.
NY020001 | 100 | Actara | Thiamethoxam.
NY100002 | 100 | Platinum Insecticide | Thiamethoxam.
NY100003 | 100 | Flagship 25WG | Thiamethoxam.
NY100004 | 100 | Flagship 0.22G | Thiamethoxam.
NY100005 | 100 | Endigo ZC | Lambda-Cyhalothrin; Thiamethoxam.
NY100006 | 100 | Platinum 75 SG Insecticide | Thiamethoxam.
NY110002 | 7969 | Bas 556 SC | Metconazole; Pyraclostrobin.
OH050001 | 66222 | Rimon 0.83 EC | Novaluron.
OH080001 | 279 | Mustang Max EC Insecticide | Zeta-Cypermethrin.
OR000007 | 100 | Trinexapac Liquid | Trinexapac-ethyl.
OR030008 | 66222 | Equus DF | Chlorothalonil.
OR030012 | 66222 | Thionex 50W Insecticide | Endosulfan.
OR030013 | 66222 | Thiodan 3 EC Insecticide | Endosulfan.
OR030024 | 66222 | Thiodan 3 EC Insecticide | Endosulfan.
OR030037 | 10163 | Rubigan E.C. | Fenarimol.
OR060020 | 62719 | Laredo EC | Myclobutanil.
OR990037 | 100 | Bravo 825 | Chlorothalonil.
OR990038 | 100 | Bravo 720 | Chlorothalonil.
SC100001 | 100 | Endigo ZC | Lambda-Cyhalothrin; Thiamethoxam.
SC100004 | 100 | Gramoxone Inteon | Paraquat dichloride.
SC110002 | 100 | Reflex Herbicide | Sodium salt of fomesafen.
SC900004 | 100 | Reflex 2lC Herbicide | Sodium salt of fomesafen.
SD040002 | 7969 | Pristine Fungicide | Pyraclostrobin; Boscalid.
SD040003 | 7969 | Emerald Fungicide | Boscalid.
SD060005 | 7969 | Outlook Herbicide | Dimethenamide-P.
SD920007 | 279 | Capture 2 EC | Bifenthrin.
TN090002 | 100 | Reflex Herbicide | Sodium salt of fomesafen.
TX100001 | 10163 | Onager Miticide | Hexythiazox.
TX100012 | 279 | Fury 1.5 EW Insecticide | Zeta-Cypermethrin.
UT070003 | 400 | Acramite-4SC | Befenazate.
UT070004 | 66222 | Rimon 0.83 EC | Novaluron.
VA010001 | 59639 | Distance Insect Growth Regulator | Pyriproxyfen.
VA089999 | 59639 | Safari 20 SG Insecticide | Denotefuran.
WA010034 | 66222 | Galigan 2E | Oxyfluorfen.
WA010037 | 66222 | Galigan 2E | Oxyfluorfen.
WA030027 | 66222 | Thiodan 3 EC Insecticide | Endosulfan.
WA090012 | 62719 | Lorsban Advanced | Chlorpyrifos.
WA100001 | 264 | Sevin Brand 4F Carbaryl Insecticide | Carbaryl.
WA990001 | 264 | Ethrel Brand Ethephon Plant Regulator | Ethephon.
WI010008 | 66330 | Iprodione 4l AG | Iprodione.
WY080002 | 279 | Mustang Max EC Insecticide | Zeta-Cypermethrin.
WY120003 | 7173 | Rozol Prairie Dog Bait | Chlorophacinone.

Table 2 of this unit includes the names and addresses of record for all registrants of the products in Table 1 of this unit, in sequence by EPA company number.

Table 2—Registrants Requesting Voluntary Cancellation
EPA Company No. | Company name and address
100 | Syngenta Crop Protection, LLC, P.O. Box 18300, Greensboro, NC 27419-8300.
228 | Nufarm Americas, Inc., 4020 Aerial Center Pkwy., Suite 103, Morrisville, NC 27560.
239 | The Scotts Company, D/B/A The Ortho Group, P.O. Box 190, Marysville, OH 43030.
241 | BASF Corp., P.O. Box 13528, Research Triangle Park, NC 27709-3528.
264 | Bayer CropScience LP, P.O. Box 12014, Research Triangle Park, NC 27709.
279 | FMC Corp. Agricultural Products Group, 1735 Market St., Rm. 1978, Philadelphia, PA 19103.
352 | E.I. Du Pont de Nemours & Co., 1007 Market Street, Wilmington, DE 19898-0001.
400 | Chemtura Corp., 199 Benson Rd., Middlebury, CT 06749.
432 | Bayer Environmental Science, A Division of Bayer CropScience LP, P.O. Box 12014, Research Triangle Park, NC 27709.
464 | The Dow Chemical Company, 1500 East Lake Cook Road, Buffalo Grove, IL 60089.
499 | Whitmire Micro-Gen Research Laboratories, Inc., 3568 Tree Court Industrial Blvd., St. Louis, MO 63122-6682.
524 | Monsanto Company, 1300 I Street NW., Suite 450 E., Washington, DC 20005.
1448 | Buckman Laboratories Inc., 1256 North McLean Blvd., Memphis, TN 38108.
1529 | International Specialty Products, An Ashland Inc. Business, 1361 Alps Road, Wayne, NJ 07470.
1677 | Ecolab Inc., 370 North Wabasha Street, St. Paul, MN 55102.
1706 | Nalco Company, A Subsidiary of Ecolab Inc., 370 North Wabasha Street, St. Paul, MN 55102.
2217 | PBI/Gordon Corp., P.O. Box 014090, Kansas City, MO 64101-0090.
2724 | Wellmark International, 1501 E. Woodfield Rd., Suite 200 W., Schaumburg, IL 60173.
2935 | Wilbur-Ellis Company, P.O. Box 1286, Fresno, CA 93715.
5813 | The Clorox Co., c/o PS&RC, P.O. Box 493, Pleasanton, CA 94566-0803.
5887 | Value Gardens Supply, LLC, 9100 W. Bloomington Freeway, Suite 113, Bloomington, MN 55431.
7173 | Liphatech, Inc., 3600 W. Elm Street, Milwaukee, WI 53209.
7969 | BASF Corp., Agricultural Products, P.O. Box 13528, Research Triangle Park, NC 27709-3528.
8622 | ICL-IP America, Inc., 95 Maccorkle Ave. Southwest, South Charleston, WV 25303.
9198 | The Andersons Lawn Fertilizer Division, Inc., P.O. Box 119, Maumee, OH 43537.
10088 | Athea Laboratories Inc., P.O. Box 240014, Milwaukee, WI 53224.
10163 | Gowan Co., P.O. Box 5569, Yuma, AZ 85366-8844.
19713 | Drexel Chemical Company, P.O. Box 13327, Memphis, TN 38113-0327.
34704 | Loveland Products, Inc., P.O. Box 1286, Greeley, CO 80632-1286.
50534 | GB Biosciences Corp., P.O. Box 18300, Greensboro, NC 27419-5458.
54625 | The Brita Products Co., c/o PS&RC, P.O. Box 493, Pleasanton, CA 94566-0803.
55146 | Nufarm Americas, Inc., 4020 Aerial Center Pkwy., Suite 103, Morrisville, NC 27560.
59639 | Valent U.S.A. Corporation, 1600 Riviera Avenue, Suite 200, Walnut Creek, CA 94596.
60061 | Kop-Coat, Inc., 3020 William Pitt Way, Pittsburgh, PA 15238.
62719 | Dow Agrosciences LLC, 9330 Zionsville Road, Indianapolis, IN 46268-1054.
66222 | Makhteshim Agan of North America, Inc., 3120 Highwoods Blvd., Suite 100, Raleigh, NC 27604.
66330 | Arysta Lifescience North America, LLC, 15401 Weston Parkway, Suite 150, Cary, NC 27513.
67071 | Thor GMBH, c/o Thor Specialties Inc., 50 Waterview Drive, Shelton, CT 06484.
67619 | Clorox Professional Products Company, c/o PS&RC, P.O. Box 493, Pleasanton, CA 94566-0803.
70404 | BASF Corporation, 100 Park Avenue, Florham Park, NJ 07932.
74655 | Hercules Incorporated, A Wholly Owned Subsidiary of Ashland Inc., 7910 Baymeadows Way, Suite 100, Jacksonville, FL 32256.
75318 | B2E Biotech LLC, 1501 East Woodfield Road, Schaumburg, IL 60173.
81880 | Canyon Group LLC, c/o Gowan Company, 370 S. Main Street, Yuma, AZ 85364.
83222 | Direct Ag Source, LLC, P.O. Box 538, Eldora, IA 50627.

III. What is the Agency's authority for taking this action?

Section 6(f)(1) of FIFRA provides that a registrant of a pesticide product may at any time request that any of its pesticide registrations be canceled. FIFRA further provides that, before acting on the request, EPA must publish a notice of receipt of any such request in the Federal Register.

Section 6(f)(1)(B) of FIFRA requires that before acting on a request for voluntary cancellation, EPA must provide a 30-day public comment period on the request for voluntary cancellation or use termination. In addition, FIFRA section 6(f)(1)(C) requires that EPA provide a 180-day comment period on a request for voluntary cancellation or termination of any minor agricultural use before granting the request, unless:

1. The registrants request a waiver of the comment period, or

2. The EPA Administrator determines that continued use of the pesticide would pose an unreasonable adverse effect on the environment.

The registrants in Table 2 of Unit II. have not requested that EPA waive the 180-day comment period. Accordingly, EPA will provide a 180-day comment period on the proposed requests.

IV. Procedures for Withdrawal of Request

Registrants who choose to withdraw a request for cancellation should submit such withdrawal in writing to the person listed under FOR FURTHER INFORMATION CONTACT. If the products have been subject to a previous cancellation action, the effective date of cancellation and all other provisions of any earlier cancellation action are controlling.

V. Provisions for Disposition of Existing Stocks

Existing stocks are those stocks of registered pesticide products that are currently in the United States and that were packaged, labeled, and released for shipment prior to the effective date of the cancellation action. Because the Agency has identified no significant potential risk concerns associated with these pesticide products, upon cancellation of the products identified in Table 1 of Unit II, EPA anticipates allowing registrants to sell and distribute existing stocks of these products until January 15, 2014. Thereafter, registrants will be prohibited from selling or distributing the pesticides identified in Table 1 of Unit II, except for export consistent with FIFRA section 17 or for proper disposal. Persons other than registrants will generally be allowed to sell, distribute, or use existing stocks until such stocks are exhausted, provided that such sale, distribution, or use is consistent with the terms of the previously approved labeling on, or that accompanied, the canceled products.

List of Subjects

Environmental protection, Pesticides and pests.

Dated: May 31, 2013.
Michael Hardy,
Acting Director, Information Technology and Resources Management Division, Office of Pesticide Programs.

[FR Doc. 2013-15034 Filed 6-25-13; 8:45 am]

BILLING CODE 6560-50-P